DEPARTMENT OF THE INTERIOR

Geological Survey

[GX23RL00UUW0400; OMB Control Number 1028-NEW]

Agency Information Collection Activities; Submission to the Office of Management and Budget for Review and Approval; Recreation Mapping for the Salmon River Basin, Idaho

AGENCY: U.S. Geological Survey, Interior.

ACTION: Notice of information collection; request for comment.

SUMMARY: In accordance with the Paperwork Reduction Act (PRA) of 1995, the U.S. Geological Survey (USGS) is proposing a new information collection.

DATES: Interested persons are invited to submit comments. To be considered, your comments must be received on or before May 14, 2025.

ADDRESSES: Written comments and recommendations for the proposed information collection request (ICR) should be sent within 30 days of publication of this notice to www.reginfo.gov/public/do/PRAMain. Find this particular information collection by selecting “Currently under Review—Open for Public Comments” or by using the search function.

You may submit comments by one of the following methods:

Internet: https://www.regulations.gov. Search for and submit comments on Docket No. USGS-2025-0002;

U.S. Mail: USGS, Information Collections Clearance Officer, 12201 Sunrise Valley Drive, MS 159, Reston, VA 20192.

FOR FURTHER INFORMATION CONTACT: JoAnn Holloway by email at jholloway@usgs.gov or by telephone at 303-236-2449. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA (44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on May 21, 2024 (89 FR 44700). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The information to be collected includes demographic information (age, gender, education, and income), uses/activities respondents pursue in the Salmon River Basin, what values they associate with those activities, map locations associated with their top use, and knowledge of and attitudes towards commercial uses of the Basin. This information will be collected to develop use and value maps for the Basin. The information will be used for research purposes—to understand which users, uses, and values could be most impacted by various management actions. The USGS does not manage any lands and is unaware of any specific plans by the agencies that do. The name of the survey was changed from the earlier notice published in the Federal Register on May 21, 2024 (89 FR 44700) to “Recreation Mapping for the Salmon River Basin, Idaho.”

Title of Collection: Recreation Mapping for the Salmon River Basin, Idaho.

OMB Control Number: 1028-NEW.

Form Number: None.

Type of Review: New.

Respondents/Affected Public: Residents of and visitors to the counties intersecting the Salmon River Basin, Idaho.

Total Estimated Number of Annual Respondents: 1,776.

Total Estimated Number of Annual Responses: 1,776.

Estimated Completion Time per Response: ~15 minutes.

Total Estimated Number of Annual Burden Hours: 444.

Respondent's Obligation: Voluntary.

Frequency of Collection: One time.

Total Estimated Annual Nonhour Burden Cost: None.

An agency may not conduct or sponsor and a person is not required to respond to a collection of information unless it displays a currently valid OMB control number.

The authority for this action is the PRA of 1995 (44 U.S.C. 3501 et seq.).

Lara E. Douglas,
Center Director, Rocky Mountain Region, USGS.

[FR Doc. 2025-06292 Filed 4-11-25; 8:45 am]

BILLING CODE 4338-11-P